DEPARTMENT OF TRANSPORTATION

Federal Aviation Administration

14 CFR Part 39

[Docket No. FAA-2015-1417; Directorate Identifier 2013-NM-159-AD]

RIN 2120-AA64

Airworthiness Directives; Airbus Airplanes

AGENCY: Federal Aviation Administration (FAA), DOT.

ACTION: Notice of proposed rulemaking (NPRM).

SUMMARY: We propose to supersede Airworthiness Directive (AD) 2004-20-14, for all Airbus Model A300 B4-2C, B4-103, and B4-203 airplanes; and all Model A300 B4-600, B4-600R, and F4-600R series airplanes. AD 2004-20-14 requires repetitive inspections to detect cracking of the splice fitting at fuselage frame (FR) 47 between stringers 24 and 26 (left- and right-hand sides), and corrective actions if necessary. Since we issued AD 2004-20-14, we have determined that the inspection compliance time and repetitive inspection interval must be reduced to allow timely detection of cracks in the splice fitting at fuselage FR 47. This proposed AD would reduce the inspection compliance time and repetitive inspection intervals, and add Model A300 C4-605R Variant F airplanes to the applicability. We are proposing this AD to detect and correct cracking of the splice fitting at fuselage FR 47, which could result in reduced structural integrity of the airplane.

DATES: We must receive comments on this proposed AD by June 29, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2015-1417; Directorate Identifier 2013-NM-159-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On September 30, 2004, we issued AD 2004-20-14, Amendment 39-13819 (69 FR 60809, October 13, 2004), which superseded AD 2001-03-14, Amendment 39-12118 (66 FR 10957, February 21, 2001). AD 2004-20-14 requires actions intended to address an unsafe condition on all Airbus Model A300 B4-2C, B4-103, and B4-203 airplanes; and all Model A300 B4-600, B4-600R, and F4-600R series airplanes. Since we issued AD 2004-20-14, Amendment 39-13819 (69 FR 60809, October 13, 2004), we have determined that the inspection compliance time and repetitive inspection interval must be reduced to allow timely detection of cracks in the splice fitting at fuselage FR 47, and that Model A300 C4-605R Variant F airplanes must be added to the applicability.

The European Aviation Safety Agency (EASA), which is the Technical Agent for the Member States of the European Union, has issued EASA Airworthiness Directive 2013-0184R1, dated August 22, 2013 (referred to after this as the Mandatory Continuing Airworthiness Information, or “the MCAI”), to correct an unsafe condition for the specified products. The MCAI states:

In order to prevent crack development in the fastener holes at Frame (FR) 47 splicing joint on A300 aeroplanes, Airbus developed modification (Mod) 5890 for aeroplanes in production and issued corresponding Service Bulletin (SB) A300-53-0199 for aeroplanes in service.

Subsequently, cracks were found on FR47 splice fitting between stringers (STRG) 24 and 26 on A300 aeroplanes previously modified by SB A300-53-0199.

This condition, if not detected and corrected, could reduce the structural integrity of the aeroplane.

To address this potential unsafe condition, DGAC [Direction Générale de l'Aviation Civile] France issued AD 2002-184 http://ad.easa.europa.eu/blob/2002184tb_superseded.pdf/AD_F-2002-184_2 [which corresponds to FAA AD 2004-20-14, Amendment 39-13819 (69 FR 60809, October 13, 2004)], superseding [DGAC France] AD 85-152-069 and [DGAC France] AD 1999-515-298 [which corresponds to FAA AD 2001-03-14, Amendment 39-12118 (66 FR 10957, February 21, 2001)], to require repetitive High Frequency Eddy Current (HFEC) rotating probe inspections of the splice fitting between STRG 24 and 26 and, depending on findings, corrective action(s). DGAC France AD 2002-184(B) expanded the applicability to A300-600 aeroplanes, which have the same design.

Since that [DGAC France] AD was issued, a fleet survey and updated Fatigue and Damage Tolerance analyses have been performed in order to substantiate the second A300-600 Extended Service Goal (ESG2) exercise. The results of these analyses have determined that the inspection threshold and intervals for A300-600 aeroplanes must be reduced to allow timely detection of these cracks and the accomplishment of an applicable corrective action.

For the reasons described above, [EASA] AD 2013-0184 retains the requirements of DGAC France AD 2002-184, which is superseded, but requires accomplishment of the actions for A300-600 aeroplanes within the new thresholds and intervals introduced with Revision 05 of Airbus SB [service bulletin] A300-53-6123 [dated August 1, 2011] .

This [EASA] AD was revised to correct the splices Part Numbers (P/N) in Table 4 of Appendix 1 of this [EASA] AD. Also, reference is now made to Airbus SB A300-53-6123 Revision 06 [dated September 28, 2011], which corrected this mistake compared to Revision 05.

You may examine the MCAI in the AD docket on the Internet at http://www.regulations.gov by searching for and locating it in Docket No. FAA-2015-1417.

Related Service Information Under 1 CFR Part 51

Airbus has issued the following service bulletins:

• Airbus Service Bulletin A300-53-6123, Revision 06, including Inspection Report, dated September 28, 2011. This service bulletin describes procedures for inspection for cracking of the splice fitting at fuselage FR 47 between stringers 24 and 26, and corrective actions.

• Airbus Service Bulletin A300-53-0350, Revision 03, including Appendix 03, dated July 26, 2007. This service bulletin describes procedures for inspection to detect cracking of the splice fitting at fuselage FR 47 between stringers 24 and 26, and corrective actions.

The actions described in this service information are intended to correct the unsafe condition identified in the MCAI. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 72 airplanes of U.S. registry.

We also estimate that it would take up to 14 work-hours per product to comply with the basic requirements of this proposed AD. The average labor rate is $85 per work hour. Based on these figures, we estimate the cost of this proposed AD on U.S. operators to be $85,680, or $1,190 per product.

In addition, we estimate that any necessary follow-on actions would take up to 204 work-hours and require parts costing up to $37,000, for a cost of up to $54,340 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2004-20-14, Amendment 39-13819 (69 FR 60809, October 13, 2004), and adding the following new AD:

Airbus: Docket No. FAA-2015-1417; Directorate Identifier 2013-NM-159-AD.

(a) Comments Due Date

We must receive comments by June 29, 2015.

(b) Affected ADs

This AD replaces AD 2004-20-14, Amendment 39-13819 (69 FR 60809, October 13, 2004).

(c) Applicability

This AD applies to the Airbus airplanes identified in paragraphs (c)(1) through (c)(5) of this AD, certificated in any category, all manufacturer serial numbers.

(1) Airbus Model A300 B4-2C, B4-103, and B4-203 airplanes.

(2) Airbus Model A300 B4-601, B4-603, B4-620, and B4-622 airplanes.

(3) Airbus Model A300 B4-605R and B4-622R airplanes.

(4) Airbus Model A300 F4-605R and F4-622R airplanes.

(5) Airbus Model A300 C4-605R Variant F airplanes.

(d) Subject

Air Transport Association (ATA) of America Code 53, Fuselage.

(e) Reason

This AD was prompted by a determination that the inspection compliance time and repetitive inspection interval must be reduced to allow timely detection of cracks in the splice fitting at fuselage frame (FR) 47. We are issuing this AD to detect and correct cracking of the splice fitting at fuselage FR 47, which could result in reduced structural integrity of the airplane.

(f) Compliance

You are responsible for having the actions required by this AD performed within the compliance times specified, unless the actions have already been done.

(g) Retained Repetitive Inspections for Airplanes Defined in Airbus Service Bulletin A300-53-0350, Revision 02, Dated November 12, 2002, With New Service Information

This paragraph restates the requirements of paragraph (a) of AD 2004-20-14, Amendment 39-13819 (69 FR 60809, October 13, 2004), with new service information. For airplanes defined in Airbus Service Bulletin A300-53-0350, Revision 02, dated November 12, 2002: Do a high frequency eddy current (HFEC) inspection to detect cracking of the splice fitting at fuselage FR 47 between stringers 24 and 26 (left- and right-hand sides), at the applicable times specified in paragraph (g)(1) or (g)(2) of this AD. Repeat the inspection thereafter at the earlier of the flight-cycle/flight-hour intervals specified in the applicable column in Table 2 of Figure 1 and Sheet 1 of the Accomplishment Instructions of Airbus Service Bulletin A300-53-0350, Revision 02, excluding Appendix 01, dated November 12, 2002. Do the inspections in accordance with Airbus Service Bulletin A300-53-0350, Revision 02, excluding Appendix 01, dated November 12, 2002; or Revision 03, excluding Appendix 01, dated July 26, 2007. As of the effective date of this AD, use only Airbus Service Bulletin A300-53-0350, Revision 03, excluding Appendix 01, dated July 26, 2007.

(1) For airplanes that have accumulated 20,000 or more total flight cycles as of November 17, 2004 (the effective date of AD 2004-20-14, Amendment 39-13819 (69 FR 60809, October 13, 2004)): Do the initial inspection at the later of the times specified in paragraphs (g)(1)(i) and (g)(1)(ii) of this AD.

(i) At the earlier of the flight-cycle/flight-hour intervals after November 17, 2004 (the effective date of AD 2004-20-14, Amendment 39-13819 (69 FR 60809, October 13, 2004)), as specified in the applicable column in Table 1 of Figure 1 and Sheet 1 of the Accomplishment Instructions of Airbus Service Bulletin A300-53-0350, Revision 02, excluding Appendix 01, dated November 12, 2002.

(ii) Within 750 flight cycles or 1,500 flight hours after November 17, 2004 (the effective date of AD 2004-20-14, Amendment 39-13819 (69 FR 60809, October 13, 2004)), whichever is first.

(2) For airplanes that have accumulated fewer than 20,000 total flight cycles as of November 17, 2004 (the effective date of AD 2004-20-14, Amendment 39-13819 (69 FR 60809, October 13, 2004)): Do the initial inspection at the later of the times specified in paragraphs (g)(2)(i) and (g)(2)(ii) of this AD.

(i) At the earlier of the flight-cycle/flight-hour intervals after November 17, 2004 (the effective date of AD 2004-20-14, Amendment 39-13819 (69 FR 60809, October 13, 2004)), as specified in the applicable column in Table 1 of Figure 1 and Sheet 1 of the Accomplishment Instructions of Airbus Service Bulletin A300-53-0350, Revision 02, excluding Appendix 01, dated November 12, 2002.

(ii) Within 1,800 flight cycles or 3,000 flight hours after November 17, 2004 (the effective date of AD 2004-20-14, Amendment 39-13819 (69 FR 60809, October 13, 2004)), whichever is first.

(h) Retained Repetitive Inspections for Airplanes Defined in Airbus Service Bulletin A300-53-6123, Revision 02, Dated November 12, 2002, With New Service Information

This paragraph restates the requirements of paragraph (b) of AD 2004-20-14, Amendment 39-13819 (69 FR 60809, October 13, 2004), with new service information. For airplanes defined in Airbus Service Bulletin A300-53-6123, Revision 02, dated November 12, 2002: Do the HFEC inspection required by paragraph (g) of this AD at the applicable times specified in paragraph (h)(1) or (h)(2) of this AD. Repeat the inspection thereafter at the earlier of the flight-cycle/flight-hour intervals specified in the applicable column in Table 2 of Figure 1 and Sheet 1 of the Accomplishment Instructions of Airbus Service Bulletin A300-53-6123, Revision 02, excluding Appendix 01, dated November 12, 2002. Do the inspections in accordance with the Accomplishment Instructions of Airbus Service Bulletin A300-53-6123, Revision 02, excluding Appendix 01, dated November 12, 2002, excluding Appendix 01; or Revision 06, dated September 28, 2011. Accomplishment of the actions required by paragraph (j) of this AD terminates the requirements of this paragraph.

(1) For airplanes that have accumulated 10,000 or more total flight cycles as of November 17, 2004 (the effective date of AD 2004-20-14, Amendment 39-13819 (69 FR 60809, October 13, 2004)): Do the initial inspection within 750 flight cycles or 1,900 flight hours after November 17, 2004, whichever is first.

(2) For airplanes that have accumulated fewer than 10,000 total flight cycles as of November 17, 2004 (the effective date of AD 2004-20-14, Amendment 39-13819 (69 FR 60809, October 13, 2004)): Do the initial inspection at the later of the times specified in paragraphs (h)(2)(i) and (h)(2)(ii) of this AD.

(i) At the earlier of the flight-cycle/flight-hour intervals after November 17, 2004 (the effective date of AD 2004-2-14, Amendment 39-13819 (69 FR 60809, October 13, 2004)), as specified in the applicable column in Table 1 of Figure 1 and Sheet 1 of the Accomplishment Instructions of Airbus Service Bulletin A300-53-6123, Revision 02, excluding Appendix 01, dated November 12, 2002.

(ii) Within 1,500 flight cycles or 3,800 flight hours after November 17, 2004 (the effective date of AD 2004-20-14, Amendment 39-13819 (69 FR 60809, October 13, 2004)), whichever is first.

(i) Retained Repair, With Revised Repair Instructions

This paragraph restates the requirements of paragraph (c) of AD 2004-20-14, Amendment 39-13819 (69 FR 60809, October 13, 2004), with revised repair instructions. Repair any cracking found during any inspection required by paragraphs (g) and (h) this AD before further flight, in accordance with Airbus Service Bulletin A300-53-0350, Revision 02, excluding Appendix 01, dated November 12, 2002; or Airbus Service Bulletin A300-53-6123, Revision 02, excluding Appendix 01, dated November 12, 2002; as applicable. Where Airbus Service Bulletin A300-53-0350, Revision 02, excluding Appendix 01, dated November 12, 2002; or Airbus Service Bulletin A300-53-6123, Revision 02, excluding Appendix 01, dated November 12, 2002; specify to contact Airbus in case of certain crack findings, this AD requires that a repair be accomplished before further flight using a method approved by the Manager, International Branch, ANM-116, FAA, Transport Airplane Directorate; or the Direction Générale de l'Aviation Civile (DGAC) (or its delegated agent); or the European Aviation Safety Agency (EASA); or Airbus's EASA Design Organization Approval (DOA).

(j) New Requirement of This AD: Repetitive Inspections

For airplanes identified in paragraphs (c)(2) through (c)(5) of this AD: At the applicable time specified in paragraph (j)(1) or (j)(2) of this AD: Remove the fasteners and accomplish an HFEC rotating probe inspection for cracking of the splice fitting between stringer 24 and 26, in accordance with the Accomplishment Instructions of Airbus Service Bulletin A300-53-6123, Revision 06, excluding Inspection Report, dated September 28, 2011. Repeat the inspection thereafter at the applicable intervals specified in paragraphs (k)(1) through (k)(4) of this AD. If no cracking is found: Before further flight after each inspection, install new fasteners, in accordance with the Accomplishment Instructions of Airbus Service Bulletin A300-53-6123, Revision 06, excluding Inspection Report, dated September 28, 2011. Accomplishment of the initial inspection required by this paragraph terminates the requirements of paragraph (h) of this AD for that airplane.

(1) For airplanes on which Airbus Modification 5890, or the actions specified in Airbus Service Bulletin A300-53-6131, have not been done: At the applicable time specified in paragraphs (j)(1)(i) and (j)(1)(ii) of this AD.

(i) For airplanes that have an average flight time (AFT) that is more than 1.5 hours: At the later of the times specified in paragraphs (j)(1)(i)(A) and (j)(1)(i)(B) of this AD.

(A) Before the accumulation of 2,500 total flight cycles or 5,500 total flight hours, whichever occurs first.

(B) Within 800 flight cycles or 1,750 flight hours, whichever occurs first after the effective date of this AD.

(ii) For airplanes that have an AFT that is equal to or less than 1.5 hours: At the later of the times specified in paragraphs (j)(1)(ii)(A) and (j)(1)(ii)(B) of this AD.

(A) Before the accumulation of 2,700 total flight cycles or 4,100 total flight hours, whichever occurs first.

(B) Within 800 flight cycles or 1,750 flight hours, whichever occurs first after the effective date of this AD.

(2) For airplanes that have accomplished Airbus Modification 5890, or have accomplished the actions specified in Airbus Service Bulletin A300-53-6131: At the applicable time specified in paragraph (j)(2)(i) or (j)(2)(ii) of this AD.

(i) For airplanes that have an AFT that is more than 1.5 hours: At the later of the times specified in paragraphs (j)(2)(i)(A) and (j)(2)(i)(B) of this AD.

(A) Before the accumulation of 6,800 total flight cycles or 14,700 total flight hours, whichever occurs first.

(B) Within 800 flight cycles or 1,750 flight hours, whichever occurs first after the effective date of this AD.

(ii) For airplanes that have an AFT that is equal to or less than 1.5 hours: At the later of the times specified in paragraphs (j)(2)(ii)(A) and (j)(2)(ii)(B) of this AD.

(A) Before the accumulation of 7,300 total flight cycles or 11,000 total flight hours, whichever occurs first.

(B) Within 800 flight cycles or 1,750 flight hours, whichever occurs first after the effective date of this AD.

(k) New Requirement of This AD: Repetitive Inspection Intervals for Actions Specified in Paragraph (j) of This AD

For airplanes identified in paragraphs (c)(2) through (c)(5) of this AD: Repeat the inspection required by paragraph (j) of this AD at the applicable time specified in paragraphs (k)(1) through (k)(4) of this AD.

(1) For airplanes that have an AFT of more than 1.5 hours and meet the applicable conditions specified in paragraphs (k)(1)(i) through (k)(1)(iv) of this AD: Inspect at intervals not to exceed 800 flight cycles or 1,750 flight hours, whichever occurs first.

(i) Airplanes on which Airbus Modification 5890 has not been accomplished.

(ii) Airplanes on which the actions specified in Airbus Service Bulletin A300-53-6131 have not been accomplished.

(iii) Airplanes on which Airbus Modification 5890 has been accomplished and have splice part number (P/N) A53834139-202/-203 installed.

(iv) Airplanes on which the actions specified in Airbus Service Bulletin A300-53-6131 have been accomplished and have splice P/N A53834139-202/-203 installed.

(2) For airplanes that have an AFT that is equal to or less than 1.5 hours and meet the applicable conditions specified in paragraphs (k)(2)(i) through (k)(2)(iv) of this AD: Inspect at intervals not to exceed 800 flight cycles or 1,750 flight hours.

(i) Airplanes on which Airbus Modification 5890 has not been accomplished.

(ii) Airplanes on which the actions specified in Airbus Service Bulletin A300-53-6131 have not been accomplished.

(iii) Airplanes on which Airbus Modification 5890 has been accomplished and have splice P/N A53834139-202/-203 installed.

(iv) Airplanes on which the actions described in Airbus Service Bulletin A300-53-6131 have been accomplished and have splice P/N A53834139-202/-203 installed.

(3) For airplanes that have an AFT of more than 1.5 hours and meet the applicable conditions specified in paragraphs (k)(3)(i) and (k)(3)(ii) of this AD: Inspect at intervals not to exceed 800 flight cycles or 1,750 flight hours.

(i) Airplanes on which Airbus Modification 5890 has been accomplished and have splice P/N A53812635-200/-201/-202/-203 installed.

(ii) Airplanes on which the actions specified in Airbus Service Bulletin A300-53-6131 have been accomplished and have splice P/N A53812635-200/-201/-202/-203 installed.

(4) For the airplanes that have an AFT that is equal to or less than 1.5 hours and meet the applicable conditions specified in paragraphs (k)(4)(i) and (k)(4)(ii) of this AD: Inspect at intervals not to exceed 800 flight cycles or 1,750 flight hours.

(i) Airplanes on which Airbus Modification 5890 has been accomplished and have splice P/N A53812635-200/-201/-202/-203 installed.

(ii) Airplanes on which the actions specified in Airbus Service Bulletin A300-53-6131 have been accomplished and have splice P/N A53812635-200/-201/-202/-203 installed.

(l) New Requirement of This AD: Corrective Actions

If, during any inspection required by paragraph (j) or (k) of this AD, any cracks are found: Before further flight, do the applicable corrective actions, in accordance with the Accomplishment Instructions of Airbus Service Bulletin A300-53-6123, Revision 06, excluding Inspection Report, dated September 28, 2011; except as provided by paragraph (m) of this AD.

(m) New Requirement of This AD: Exception to Service Information

If any crack is found during any inspection required by paragraph (j) or (k) of this AD and Airbus Service Bulletin A300-53-6123, Revision 06, excluding Inspection Report, dated September 28, 2011; or Airbus Service Bulletin A300-53-0350, Revision 03, dated July 26, 2007; specifies to contact Airbus: Before further flight, repair the crack using a method approved by the Manager, International Branch, ANM-116, Transport Airplane Directorate, FAA; or the EASA; or Airbus's EASA DOA.

(n) Credit for Previous Actions

This paragraph provides credit for actions required by paragraphs (j) and (l) of this AD, if those actions were performed before the effective date of this AD using the applicable service information specified in paragraphs (n)(1) through (n)(7) of this AD.

(1) Airbus Service Bulletin A300-53-0350, Revision 01, dated December 18, 2001, which is not incorporated by reference in this AD.

(2) Airbus Service Bulletin A300-53-0350, Revision 02, excluding Appendix 01, dated November 12, 2002, which is incorporated by reference in AD 2004-20-14, Amendment 39-13819 (69 FR 60809, October 13, 2004).

(3) Airbus Service Bulletin A300-53-6123, Revision 01, dated December 18, 2001, which is not incorporated by reference in this AD.

(4) Airbus Service Bulletin A300-53-6123, Revision 02, excluding Appendix 01, dated November 12, 2002, which is incorporated by reference in AD 2004-20-14, Amendment 39-13819 (69 FR 60809, October 13, 2004).

(5) Airbus Service Bulletin A300-53-6123, Revision 03, dated August 20, 2004, which is not incorporated by reference in this AD.

(6) Airbus Service Bulletin A300-53-6123, Revision 04, dated April 25, 2008, which is not incorporated by reference in this AD.

(7) Airbus Service Bulletin A300-53-6123, Revision 05, dated August 1, 2011, which is not incorporated by reference in this AD.

(o) Other FAA AD Provisions

The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(p) Related Information

(1) Refer to Mandatory Continuing Airworthiness Information (MCAI) Airworthiness Directive 2013-0184R1, dated August 22, 2013, for related information. This MCAI may be found in the AD docket on the Internet at http://www.regulations.gov by searching for and locating Docket No. FAA-2015-1417.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on April 30, 2015.
Michael Kaszycki,
Acting Manager, Transport Airplane Directorate, Aircraft Certification Service.

[FR Doc. 2015-11554 Filed 5-13-15; 8:45 am]

BILLING CODE 4910-13-P